DEPARTMENT OF ENERGY

Federal Energy Regulatory Commission

[Docket No. CP02-155-000]

Gulf South Pipeline Company, L.P.; Notice of Site Visit

June 26, 2002.

On July 11, 2002, the staff of the Office of Energy Projects (OEP) will conduct a pre-certification site visit of the proposed Magnolia Gas Storage Facility and associated pipeline facilities in Assumption Parish, Louisiana. Representatives of Gulf South Pipeline Company, L.P. will accompany OEP staff.

All interested parties may attend. Those planning to attend must provide their own transportation. Contact the Commission's Office of External Affairs at 1-866-208-FERC if you are interested in attending the visit.

Linwood A. Watson, Jr.,
Deputy Secretary.

[FR Doc. 02-16607 Filed 6-1-02; 8:45 am]

BILLING CODE 6717-01-P